DEPARTMENT OF TRANSPORTATION

Federal Aviation Administration

14 CFR Part 39

[Docket No. 2003-SW-14-AD; Amendment 39-13172; AD 2003-11-13]

RIN 2120-AA64

Airworthiness Directives; Eurocopter France Model AS332C, L, and L1 Helicopters

AGENCY: Federal Aviation Administration, DOT.

ACTION: Final rule; request for comments.

SUMMARY: This amendment adopts a new airworthiness directive (AD) for the specified Eurocopter France (Eurocopter) model helicopters. This action requires replacing a certain elbow adapter (adapter) with an airworthy adapter. This amendment is prompted by reports of a cracked adapter on the hydraulic reservoir resulting in leakage of hydraulic fluid and loss of hydraulic power. This condition, if not corrected, could result in failure of an adapter on the hydraulic reservoir, loss of hydraulic fluid, loss of hydraulic power, and subsequent loss of control of the helicopter.

DATES: Effective June 18, 2003.

Comments for inclusion in the Rules Docket must be received on or before August 4, 2003.

ADDRESSES: Submit comments in triplicate to the Federal Aviation Administration (FAA), Office of the Regional Counsel, Southwest Region, Attention: Rules Docket No. 2003-SW-14-AD, 2601 Meacham Blvd., Room 663, Fort Worth, Texas 76137. You may also send comments electronically to the Rules Docket at the following address: 9-asw-adcomments@faa.gov.

FOR FURTHER INFORMATION CONTACT: Uday Garadi, Aviation Safety Engineer, FAA, Rotorcraft Directorate, Rotorcraft Standards Staff, Fort Worth, Texas 76193-0110, telephone (817) 222-5123, fax (817) 222-5961.

SUPPLEMENTARY INFORMATION: The Direction Generale De L'Aviation Civile (DGAC), the airworthiness authority for France, notified the FAA that an unsafe condition may exist on Eurocopter Model AS332C, L, and L1 helicopters. The DGAC advises that a right-hand (RH) hydraulic reservoir drained while in service due to a cracked adapter on the hydraulic reservoir. Such a situation could result in the loss of hydraulic power assistance if leakage occurs on both hydraulic systems at the same time.

Eurocopter has issued Alert Service Bulletin No. 67.00.25, dated January 8, 2003 (ASB), which specifies replacing certain adapters, part number (P/N) DHS613-636-43, on the RH hydraulic reservoir to limit the risk of hydraulic fluid leakage, which can result in the loss of hydraulic power assistance in the event of leakage on both hydraulic systems. The DGAC classified this ASB as mandatory and issued AD 2003-101(A), dated March 5, 2003, to ensure the continued airworthiness of these helicopters in France.

These helicopter models are manufactured in France and are type certificated for operation in the United States under the provisions of 14 CFR 21.29 and the applicable bilateral agreement. Pursuant to the applicable bilateral agreement, the DGAC has kept the FAA informed of the situation described above. The FAA has examined the findings of the DGAC, reviewed all available information, and determined that AD action is necessary for products of these type designs that are certificated for operation in the United States.

The previously described unsafe condition is likely to exist or develop on other helicopters of the same type design registered in the United States. Therefore, this AD is being issued to prevent failure of an adapter on the hydraulic reservoir, loss of hydraulic fluid, loss of hydraulic power, and subsequent loss of control of the helicopter. This AD requires replacing each adapter, P/N DHS613-636-43, with a manufacturing code on the hydraulic reservoir end indicating manufacture before January 1, 2002, and not identified with a yellow mark, with an airworthy adapter, P/N DHS613-636-43, with a manufacturing code on the reservoir end indicating manufacture on or after January 1, 2002. This AD requires that both the RH and left-hand (LH) affected adapters be replaced within 15 days even though the manufacturer's service information and the DGAC AD envisioned replacing the RH adapter only. This was driven apparently by an insufficient number of airworthy replacement adapters at the time their service information was released. Now, since there should be sufficient airworthy replacement adapters, both affected RH and LH adapters must be replaced. The short compliance time involved is required because the previously described critical unsafe condition can adversely affect the controllability of the helicopter. Therefore, this AD requires replacing the previously identified adapter with an airworthy adapter within 15 days, and this AD must be issued immediately.

Since a situation exists that requires the immediate adoption of this regulation, it is found that notice and opportunity for prior public comment hereon are impracticable, and that good cause exists for making this amendment effective in less than 30 days.

On July 10, 2002, the FAA issued a new version of 14 CFR part 39 (67 FR 47997, July 22, 2002), which governs the FAA's AD system. The regulation now includes material that relates to altered products, special flight permits, and alternative methods of compliance. Because we have now included this material in part 39, we are no longer including it in each individual AD.

The FAA estimates that this AD will affect 3 helicopters, and replacing both adapters on each helicopter will take approximately 2 work hours at an average labor rate of $60 per work hour. Required parts will cost approximately $184 (2 adapters per helicopter). Based on these figures, the total cost impact of the AD on U.S. operators is $912.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2003-SW-14-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2003-11-13 Eurocopter France: Amendment 39-13172. Docket No. 2003-SW-14-AD.

Applicability: Model AS332C, L, and L1 helicopters with an elbow adapter (adapter), part number (P/N) DHS613-636-43, with a manufacturing code on the hydraulic reservoir end indicating manufacture before January 1, 2002, and not identified by a yellow paint mark, installed, certificated in any category.

Note 1: Accomplishment Instructions, paragraphs 2.B.2. and 2.B.3., of Eurocopter Alert Service Bulletin No. 67.00.25, dated January 9, 2003, describe how to identify the adapter.

Compliance: Required within 15 days, unless accomplished previously.

To prevent failure of an adapter on the hydraulic reservoir, loss of hydraulic fluid, loss of hydraulic power, and subsequent loss of control of the helicopter, accomplish the following:

(a) Replace the adapter with an airworthy adapter with a manufacturing code on the hydraulic reservoir end indicating manufacture on or after January 1, 2002.

(b) To request a different method of compliance or a different compliance time for this AD, follow the procedures in 14 CFR 39.19. Contact the Regulations Group, Rotorcraft Directorate, FAA, for information about previously approved alternative methods of compliance.

(c) This amendment becomes effective on June 18, 2003.

Note 2: The subject of this AD is addressed in Direction Generale De L'Aviation Civile, France, AD 2003-101(A), dated March 5, 2003.

Issued in Fort Worth, Texas, on May 27, 2003.
David A. Downey,
Manager, Rotorcraft Directorate, Aircraft Certification Service.

[FR Doc. 03-13654 Filed 6-2-03; 8:45 am]

BILLING CODE 4910-13-P